DEPARTMENT OF COMMERCE

National Oceanic and Atmospheric Administration

50 CFR Part 648

[Docket No. 231221-0314; RTID 0648-XD357]

Fisheries of the Northeastern United States; Atlantic Bluefish Fishery; 2024 and Projected 2025 Bluefish Specifications

AGENCY: National Marine Fisheries Service (NMFS), National Oceanic and Atmospheric Administration (NOAA), Commerce.

ACTION: Final action.

SUMMARY: NMFS issues final Atlantic bluefish specifications for the 2024 fishing year and projects specifications for fishing year 2025, as recommended by the Mid-Atlantic Fishery Management Council. This action is necessary to establish allowable harvest levels for the stock to prevent overfishing and promote rebuilding, using the best scientific information available. This action also informs the public of the expected specifications for fishing year 2025.

DATES: Effective January 1 2024.

ADDRESSES: The Mid-Atlantic Fishery Management Council prepared an environmental assessment (EA) for these specifications that describes the action, other considered alternatives, and analyses of the impacts of all alternatives. Copies of the specifications document, including the EA, are available on request from Dr. Christopher M. Moore, Executive Director, Mid-Atlantic Fishery Management Council, Suite 201, 800 North State Street, Dover, DE 19901. These documents are also accessible via the internet at https://www.mafmc.org/supporting-documents.

FOR FURTHER INFORMATION CONTACT: Laura Hansen, Fishery Management Specialist, (978) 281-9225.

SUPPLEMENTARY INFORMATION:

Background

The Mid-Atlantic Fishery Management Council (Council) and the Atlantic States Marine Fisheries Commission (Commission) jointly manage the Atlantic Bluefish Fishery Management Plan (FMP). The FMP requires the specification of annual regulatory limits for up to 3 years at a time, including: acceptable biological catch (ABC), commercial and recreational annual catch limits (ACL), commercial and recreational annual catch targets (ACT), a commercial quota, a recreational harvest limit (RHL), and other management measures. This action implements bluefish specifications for the 2024 fishing year, and projects specifications for 2025, based on Council and Commission recommendations.

Recent research track (December 2022) and management track (June 2023) assessments for bluefish have determined that the stock is no longer overfished and overfishing is not occurring. However, the spawning stock biomass has not yet reached its target (i.e., the stock has not fully rebuilt), so the fishery remains under its rebuilding plan. These specifications decrease the 2024 ABC by 43 percent from 2023, based on recommendations from the Council's Scientific and Statistical Committee (SSC), results from these assessments, and the rebuilding plan for the stock. No uncertainty buffers were recommended for either the commercial or recreational sector in 2024 or 2025, but commercial discards are now included in the specifications process and are no longer considered negligible. Although the stock is no longer overfished, and therefore transferring quota between the recreational and commercial sectors is no longer prohibited by governing regulations, no sector quota transfer is included in the 2024 specifications because the fishery is still under a rebuilding plan. The resulting 2024 specifications decrease the commercial quota by 43 percent from 2023 and the RHL by 15 percent from the 2023 specifications. No changes were recommended to recreational management measures (i.e., bag limits), as the average recreational harvest under these limits (11.54 million pounds (lb); 5,234 metric tons (mt)) remains just below the RHL for 2024 (11.96 million lb; 5,425 mt). Status quo recreational measures are also intended to promote continued stability and consistency in the fishery while minimizing the risk of overfishing in the recreational sector.

The proposed rule for this action was published in the Federal Register on November 16, 2023 (88 FR 78715), and comments were accepted through December 1, 2023. NMFS received two comments from the public, and no changes are made in this final action because of those comments (see Comments and Responses for additional detail). Additional background information regarding the development of these specifications was provided in the proposed rule and is not repeated here.

Final Specifications

This action implements the Council and Commission's recommended 2024 and projected 2025 bluefish catch specifications, as outlined in the proposed rule (table 1). These final specifications decrease all catch limits in 2024 based on best available information from the recent assessments and the rebuilding plan, but project increases to all limits in 2025. As previously mentioned, this action makes no changes to recreational management measures (such as bag limits), as the expected recreational landings under the existing measures are likely to achieve the 2024 RHL without exceeding it.

Table 1—Comparison of 2023, Final 2024, and Projected 2025 Bluefish Specifications *
| 2023: Million lb | 2023: Metric tons | 2024: Million lb | 2024: Metric tons | 2025 (projected): Million lb | 2025 (projected): Metric tons
Overfishing Limit | 45.17 | 20,490 | 25.87 | 11,734 | 27.49 | 12,467
ABC = Fishery ACL | 30.62 | 13,890 | 17.48 | 7,929 | 21.83 | 9,903
Commercial ACL = Commercial ACT | 4.29 | 1,945 | 2.45 | 1,110 | 3.06 | 1,386
Recreational ACL = Recreational ACT | 26.34 | 11,945 | 15.03 | 6,819 | 18.78 | 8,517
Commercial Discards | 0 | 0 | 0.02 | 11 | 0.02 | 11
Recreational Accountability Measures | 5.59 | 2,536 | 0 | 0 | 0 | 0
Recreational Discards | 6.64 | 3,012 | 3.08 | 1,396 | 3.08 | 1,396
Commercial Total Allowable Landings (TAL) | 4.29 | 1,945 | 2.42 | 1,099 | 3.03 | 1,375
Recreational TAL | 14.11 | 6,400 | 11.96 | 5,423 | 15.70 | 7,121
Sector Transfer | 0 | 0 | 0 | 0 | 0 | 0
Commercial Quota | 4.29 | 1,945 | 2.42 | 1,099 | 3.03 | 1,375
RHL | 14.11 | 6,400 | 11.96 | 5,423 | 15.70 | 7,121
* Specifications are derived from the ABC in metric tons (mt). When values are converted to millions of pounds the numbers may shift due to rounding. The conversion factor used is 1 mt = 2204.6226 lb.

The final coastwide commercial quota is allocated among the coastal states from Maine to Florida based on percent shares specified in the FMP, and the phased-in changes to these share allocations specified in Amendment 7 to the FMP (86 FR 66977, November 24, 2021). The final 2024 and projected 2025 state-allocated commercial quotas are shown below in table 2. No states exceeded their allocated quota in 2022 or are projected to do so in 2023; therefore, no accountability measures for the commercial fishery are required for the 2024 fishing year based on the data available at this time.

Table 2—2024 and Projected 2025 Bluefish State Commercial Quota Allocations
State | 2024: Percent share | 2024: Quota (lb) | 2024: Quota (kg) | 2025 (projected): Percent share | 2025 (projected): Quota (lb) | 2025 (projected): Quota (kg)
Maine | 0.43 | 10,388 | 4,712 | 0.35 | 10,575 | 4,797
New Hampshire | 0.33 | 7,975 | 3,618 | 0.30 | 9,116 | 4,135
Massachusetts | 8.17 | 198,025 | 89,823 | 8.66 | 262,473 | 119,056
Rhode Island | 8.01 | 194,025 | 88,008 | 8.41 | 254,876 | 115,610
Connecticut | 1.19 | 28,821 | 13,073 | 1.16 | 35,284 | 16,004
New York | 14.40 | 348,947 | 158,280 | 15.74 | 477,171 | 216,441
New Jersey | 14.40 | 348,898 | 158,258 | 14.26 | 432,316 | 196,095
Delaware | 1.29 | 31,139 | 14,124 | 1.09 | 32,966 | 14,953
Maryland | 2.54 | 61,471 | 27,883 | 2.38 | 72,213 | 32,755
Virginia | 9.30 | 225,380 | 102,231 | 8.44 | 255,939 | 116,092
North Carolina | 32.05 | 776,452 | 352,193 | 32.04 | 971,305 | 440,577
South Carolina | 0.06 | 1,561 | 708 | 0.07 | 2,248 | 1,020
Georgia | 0.05 | 1,194 | 541 | 0.06 | 1,895 | 860
Florida | 7.80 | 188,899 | 85,683 | 7.04 | 213,469 | 96,828
Total | 100 | 2,422,880 | 1,099,000 | 100 | 3,031,356 | 1,375,000

Although catch limits are decreasing, neither the recreational nor the commercial sector of the fishery is expected to be substantially impacted by this action. Harvest in both sectors has been decreasing in recent years. Coastwide commercial landings have not exceeded 2.2 million lb (998 mt) in the last 3 years, and recreational harvest averaged 11.54 million lb (5,234 mt), both lower than the new 2024 limits. The 2025 specifications are projected based on the new assessment data and the fourth year of the rebuilding plan model. The Council will review the projected 2025 specifications in light of any new information to determine if changes are needed prior to their implementation. NMFS will publish a notice prior to the 2025 fishing year to confirm these limits as projected or announce any necessary changes.

Comments and Responses

The public comment period for the proposed rule ended on December 1, 2023, and NMFS received two comments from the public. No changes were made to this final action as a result of these comments. The first comment asked that NMFS raise the recreational bag limit for for-hire vessels from five fish per person to six or seven fish per person. The commenter explained that the perception of a possible higher catch is important to attract and maintain business, but that most customers are unlikely to take home more than four or five fish anyway, so the requested increase would have little impact on the bluefish population. Based on recent recreational data, the expected recreational landings under the current bag limit for for-hire vessels of five fish per person are likely to come very close to the 2024 RHL. Any liberalization in the bag limit would substantially increase the risk of a recreational overage, and the Council did not find a compelling reason to make changes to existing measures at this time.

The next commenter supported the catch limit reductions in 2024, as they and their colleagues have personally seen fewer bluefish available for recreational fishing recently. They also questioned the projected increases in 2025, but trust the expert opinions of the scientists involved. NMFS agrees that the proposed reductions are necessary to prevent overfishing and promote continued rebuilding based on the 2023 assessment and best available science. The 2025 specifications will also be reviewed before their publication to ensure the fishery can support the projected future increases.

Changes From the Proposed Rule

There are no substantive changes from the proposed rule.

Classification

Pursuant to section 304(b)(3) of the Magnuson Stevens Fishery Conservation and Management Act (Magnuson-Stevens Act), the Assistant Administrator for Fisheries, NOAA, has determined that these final specifications are necessary for the conservation and management of the Atlantic bluefish fishery, and that they are consistent with the Atlantic Bluefish FMP, the Magnuson-Stevens Act, and other applicable law.

The Assistant Administrator for Fisheries, NOAA, finds good cause under 5 U.S.C. 553(d)(3) to waive the 30-day delay in effective date for this action to ensure that the final specifications are in place as close as practicable to the start of the bluefish fishing year on January 1, 2024. This action establishes the final specifications (i.e., catch limits) for the 2024 bluefish fishery. The need to implement these measures in a timely manner to ensure that these final specifications are in place for the start of the 2024 bluefish fishing year constitutes good cause to waive the 30-day delay in effective date of this action.

This action is being issued at the earliest possible date. To ensure that the action is based on the best available science and in compliance with the National Environmental Policy Act, the rulemaking process is dependent on the EA which is prepared by the Council. The proposed rule was prepared in October 2023 upon receipt of the EA from the Council, and published in November 2023 once proper reviews could be completed. The public comment period ended on December 1, 2023, and this final action was written and reviewed as quickly as possible with the intent to publish in time to be effective for the January 1 start of the fishing year.

Furthermore, regulated parties do not require any additional time to come into compliance with this action, and thus, a 30-day delay before it becomes effective does not provide any benefit. Unlike actions that require an adjustment period, vessels fishing for bluefish will not have to purchase new equipment or otherwise expend time or money to comply with these management measures. Rather, complying with this final action simply means adhering to the new catch limits set for the 2024 fishing year. Fishery stakeholders have also been involved in the development of this action and are anticipating this action.

Finally, a 30-day delay in effectiveness would postpone implementation of these catch limits well beyond the start of this fishing year, which is contrary to the public interest as it could create confusion in the bluefish industry around current state quotas. The longer these specifications are delayed, the longer it will take for some state agencies to implement respective regulations and annual management measures, which causes further industry confusion, and tension with state partners. A delay in effectiveness could also compromise the efficacy of the new, lower limits to promote the growth and rebuilding of the stock, by limiting the time they are in place during fishing year 2024.

For these reasons, NMFS finds that a 30-day delay in effectiveness would be contrary to the public interest, and, therefore, waives the requirement consistent with 5 U.S.C. 553(d)(3). As a result, there is good cause to implement this action upon filing in the Federal Register.

This final action is exempt from review under Executive Order 12866.

The Chief Counsel for Regulation of the Department of Commerce certified to the Chief Counsel for Advocacy of the Small Business Administration during the proposed rule stage that this action would not have a significant economic impact on a substantial number of small entities. The factual basis for the certification was published in the proposed rule and is not repeated here. No comments were received regarding this certification and the initial certification remains unchanged. As a result, a final regulatory flexibility analysis is not required and none was prepared.

This action would not establish any new reporting or record-keeping requirements.

This final action does not duplicate, conflict, or overlap with any existing Federal rules.

This action contains no information collection requirements under the Paperwork Reduction Act of 1995.

Authority: 16 U.S.C. 1801 et seq.

Dated: December 26, 2023.
Samuel D. Rauch, III,
Deputy Assistant Administrator for Regulatory Programs, National Marine Fisheries Service.

[FR Doc. 2023-28792 Filed 12-29-23; 8:45 am]

BILLING CODE 3510-22-P